DEPARTMENT OF THE TREASURY

Internal Revenue Service

26 CFR Part 1

[TD 8941]

RIN 1545-AX87

Obligations of States and Political Subdivisions; Correction

AGENCY: Internal Revenue Service (IRS), Treasury.

ACTION: Correction to final and temporary regulations.

SUMMARY: This document contains a correction to final and temporary regulations, TD 8941, which were published in the Federal Register on Thursday, January 18, 2001 (66 FR 4661). These regulations provide guidance to issuers of tax-exempt bonds for output facilities.

DATES: This correction is effective January 19, 2001.

FOR FURTHER INFORMATION CONTACT: Rose M. Weber (202) 622-3980 (not a toll-free number).

SUPPLEMENTARY INFORMATION:

Background

The final and temporary regulations that are the subject of this correction are under sections 141 and 142 of the Internal Revenue Code.

Need for Correction

As published, TD 8941 contains an error which may prove to be misleading and is in need of clarification.

Correction of Publication

Accordingly, the publication of final and temporary regulations, TD 8941, which are the subject of FR Doc. 01-1412, is corrected as follows:

On page 4661, column 1, in the preamble under the paragraph heading “Paperwork Reduction Act” , last line of the first paragraph, the language “number 1545-” is corrected to read “number 1545-1730”.

Cynthia Grigsby,
Chief, Regulations Unit, Office of Special Counsel (Modernization & Strategic Planning).

[FR Doc. 01-5282 Filed 3-5-01; 8:45 am]

BILLING CODE 4830-01-P